DEPARTMENT OF TRANSPORTATION

Federal Aviation Administration

14 CFR Part 71

[Docket No. FAA-2008-0126; Airspace Docket No. 08-AGL-2]

Amendment of Class E Airspace; Indianapolis, IN

AGENCY: Federal Aviation Administration (FAA), DOT.

ACTION: Direct final rule; withdrawal.

SUMMARY: A direct final rule, published in the Federal Register February 4, 2008, (73 FR 6424), Docket No. FAA-2008-026, establishing Class E airspace at Hendricks County-Gordon Graham Field Airport, Indianapolis, IN, is being withdrawn.

The FAA has found that Class E airspace already exists for the Indianapolis, IN, area, and therefore, substantial corrections would need to be made. In the interest of clarity, this rule is being withdrawn, and a new rulemaking amending the existing airspace will be forthcoming.

DATES: Effective Date: 0901 UTC March 20, 2008.

FOR FURTHER INFORMATION CONTACT: Joe Yadouga, Central Service Center, System Support Group, Federal Aviation Administration, Southwest Region, Fort Worth, TX 76193-0530; telephone (817) 222-5597; Airspace Docket No. 08-AGL-02.

SUPPLEMENTARY INFORMATION:

History

On Monday, February 4, 2008, a direct final rule was published in the Federal Register (73 FR 6424), Docket No. FAA-2008-0024, establishing Class E airspace at Hendricks County-Gordon Graham Field Airport, Indianapolis, IN. Subsequent to publication, the FAA found that Class E airspace already exists for the Indianapolis area. The FAA feels a correction to this rulemaking would be confusing. Therefore, the FAA is withdrawing the direct final rule and will replace it with an amendment to the existing Class E airspace for Indianapolis, IN.

Issued in Fort Worth, TX, on March 7, 2008.
Donald R. Smith,
Manager, System Support Group, ATO Central Service Center.

[FR Doc. E8-5367 Filed 3-19-08; 8:45 am]

BILLING CODE 4910-13-M